FEDERAL COMMUNICATIONS COMMISSION

47 CFR Part 73

[DA 04-780; MB Docket No. 04-79, RM-10873, RM-10874; MB Docket No. 04-80, RM-10875; MB Docket No. 04-81, RM-10876; MB Docket No. 04-82, RM-10877; MB Docket No. 04-83, RM-10878; MB Docket No. 04-84, RM-10879; MB Docket No. 04-85, RM-10880, RM-10881; MB Docket No. 04-86, RM-10882, RM-10883, RM-10884, RM-10885; MB Docket No. 04-87, RM-10886; MB Docket No. 04-88, RM-10887; MB Docket No. 04-89, RM-10888; MB Docket No. 04-90, RM-10889; MB Docket No. 04-91, RM-10890, RM-10891; MB Docket No. 04-92, RM-10892, RM-10893; MB Docket No. 04-93, RM-10894; MB Docket No. 04-94, RM-10895; MB Docket No. 04-95, RM-10896]

Radio Broadcasting Services; Anniston, AL, Asbury, IA, Horseshoe Beach, FL, Keosauqua, IA, Live Oak, FL, Moville, IA, Olathe, CO, Patagonia, AZ, Pima, AZ, Rudd, IA, St. Florian, AL, Somerton, AZ, Sutter Creek, CA, Weiser, ID, Westley, CA, and Willcox, AZ

AGENCY: Federal Communications Commission.

ACTION: Proposed rule.

SUMMARY: This document sets forth seventeen reservation proposals requesting to amend the FM Table of Allotments by reserving certain vacant FM allotments for noncommercial educational use in Anniston, Alabama, Asbury, Iowa, Horseshoe Beach, Florida, Keosauqua, Iowa, Live Oak, Florida, Moville, Iowa, Olathe, Colorado, Patagonia, Arizona, Pima, Arizona, Rudd, Iowa, St. Florian, Alabama, Somerton, Arizona, Sutter Creek, California, Weiser, Idaho, Westley, California, and Willcox, Arizona. The Audio Division requests comment on petitions filed by American Family Association and Jimmy Jarrell Communications Foundations Inc. proposing the reservation of vacant Channel 261C3 at Anniston, Alabama for noncommercial use. The reference coordinates for Channel *261C3 at Anniston are 33-40-51 North Latitude and 85-48-56 West Longitude. The Audio Division requests comment on petitions filed by American Family Association proposing the reservation of vacant Channel 274A at St. Florian, Alabama and vacant Channel 268A at Rudd, Iowa for noncommercial use. The reference coordinates for Channel *274A at St. Florian are 34-57-8 North Latitude and 87-39-30 West Longitude. The reference coordinates for Channel *268A at Rudd are 43-7-34 North Latitude and 92-54-20 West Longitude. See SUPPLEMENTARY INFORMATION, infra.

DATES: Comments must be filed on or before May 17, 2004, and reply comments on or before June 1, 2004.

ADDRESSES: Federal Communications Commission, 445 Twelfth Street, SW., Washington, DC 20554. In addition to filing comments with the FCC, interested parties should serve the petitioner, his counsel, or consultant, as follows: Patrick J. Vaughn, General Counsel, American Family Association, Post Office Drawer 2440, Tupelo, MS 38803; David A. O'Connor, Esq., c/o Calvary Chapel of Tucson, Holland & Knight LLP, 2099 Pennsylvania Avenue, NW., Suite 100, Washington, DC 20006; William J. Byrnes, Esq., c/o Radio Bilingue, Inc. 7921 Old Falls Road, McLean, VA 22102; David A. O'Connor, Esq., c/o Calvary Chapel of Amador County, Holland & Knight LLP, 2099 Pennsylvania Avenue, NW., Suite 100, Washington, DC 20006; Mark Follett, Starboard Media Foundation, Inc., 2300 Riverside Drive, Green Bay, WI 54301; Theodore D. Frank, Esq. and Maureen R. Jeffreys, Esq., c/o KQED, Inc., Arnold & Porter, 555 12th Street, NW., Washington, DC 20004-1206; Harry C. Martin, Esq. and Lee G. Petro, Esq., c/o Calvary Chapel of Montrose, Fletcher, Heald & Hildreth PLC, 1300 North 17th Street, 11th Floor, Arlington, VA 22209; Harry C. Martin, Esq. and Lee G. Petro, Esq., c/o Living Proof, Inc, Fletcher, Heald & Hildreth PLC, 1300 North 17th Street, 11th Floor, Arlington, VA 22209; Todd D. Gray, Esq., Margaret L. Miller, Esq. and Barry S. Persh, Esq., c/o University of Iowa, Dow, Lohnes & Albertson, PLLC, 1200 New Hampshire Avenue, Suite 800, Washington, DC 20036; and Jeff Abrams, Chairman, Boise Community Radio Project, Inc., 4370 Kitsap Way, Boise, Idaho 83703.

FOR FURTHER INFORMATION CONTACT: Rolanda F. Smith, Media Bureau, (202) 418-2180.

SUPPLEMENTARY INFORMATION: This is a synopsis of the Commission's Notice of Proposed Rule Making, MB Docket Nos. 04-79, 04-80, 04-81, 04-82, 04-83, 04-84, 04-85, 04-86, 04-87, 04-88, 04-89, 04-90, 04-91, 04-92, 04-93, 04-94, and 04-95 adopted March 24, 2004 and released March 26, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division requests comment on petitions filed by Calvary Chapel of Tucson proposing the reservation of vacant Channel 251A at Patagonia, Arizona, vacant Channel 296A at Pima, Arizona, and vacant Channel 223C3 at Willcox, Arizona for noncommercial use. The reference coordinates for Channel *251A at Patagonia are 31-33-05 North Latitude and 110-44-45 West Longitude. The reference coordinates for Channel *296A at Pima are 32-53-36 North Latitude and 109-49-42 West Longitude. The reference coordinates for Channel *223C3 at Willcox are 32-16-22 North Latitude and 109-48-14 West Longitude.

The Audio Division requests comment on a petition filed by Radio Bilingue, Inc. proposing the reservation of vacant Channel 260C3 at Somerton, Arizona for noncommercial use. The reference coordinates for Channel *260C3 at Somerton are 32-35-0 North Latitude and 114-35-5 West Longitude.

The Audio Division requests comment on petitions filed by American Family Association and Calvary Chapel of Amador County proposing the reservation of vacant Channel 298A at Sutter Creek, California for noncommercial use. The reference coordinates for Channel *298A at Sutter Creek are 38-23-30 North Latitude and 120-48-06 West Longitude.

The Audio Division requests comment on petitions filed by American Family Association, Radio Bilingue, Inc., Starboard Media Foundation, Inc., and KQED, Inc. proposing the reservation of vacant Channel 238A at Westley, California for noncommercial use. The reference coordinates for Channel *238A at Westley are 37-28-13 North Latitude and 121-11-14 West Longitude.

The Audio Division requests comment on petitions filed by Calvary Chapel of Montrose proposing the reservation of vacant Channel 270C2 and Channel 293C at Olathe, Colorado for noncommercial use. The reference coordinates for Channel *270C2 at Olathe are 38-36-18 North Latitude and 107-58-54 West Longitude. The reference coordinates for Channel *293C at Olathe are 38-37-3 North Latitude and 107-58-33 West Longitude.

The Audio Division requests comment on a petition filed by Living Proof, Inc. proposing the reservation of vacant Channel 234C3 at Horseshoe Beach, Florida for noncommercial use. The reference coordinates for Channel *234C3 at Horseshoe Beach are 29-26-28 North Latitude and 83-17-15 West Longitude.

The Audio Division requests comment on petitions filed by Starboard Media Foundation, Inc. proposing the reservation of vacant Channel 259A at Live Oak, Florida and vacant Channel 246A at Moville, Iowa for noncommercial use. The reference coordinates for Channel *259A at Live Oak are 30-13-12 North Latitude and 82-54-0 West Longitude. The reference coordinates for Channel *246A at Moville are 42-29-11 North Latitude and 96-0-36 West Longitude.

The Audio Division requests comment on petitions filed by American Family Association and Starboard Media Foundation, Inc. proposing the reservation of vacant Channel 238A at Asbury, Iowa for noncommercial use. The reference coordinates for Channel *238A at Asbury are 42-30-18 North Latitude and 90-40-46 West Longitude.

The Audio Division requests comment on petitions filed by University of Iowa and Starboard Media Foundation, Inc. proposing the reservation of vacant Channel 271C3 at Keosauqua, Iowa for noncommercial use. The reference coordinates for Channel *271C3 at Keosauqua are 40-43-48 North Latitude and 91-57-48 West Longitude.

The Audio Division requests comment on a petition filed by Boise Community Radio Project, Inc. proposing the reservation of vacant Channel 280C1 at Weiser, Idaho for noncommercial use. The reference coordinates for Channel *280C1 at Weiser are 44-20-39 North Latitude and 117-7-14 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alabama, is amended by adding Channel *261C3 and by removing Channel 261C3 at Anniston; and by adding Channel *274A and by removing Channel 274A at Saint Florian.

3. Section 73.202(b), the Table of FM Allotments under Arizona, is amended by adding Channel *251A and by removing Channel 251A at Patagonia; by adding Channel *296A and by removing Channel 296A at Pima; by adding Channel *260C3 and by removing Channel 260C3 at Somerton; and by adding Channel *223C3 and by removing Channel 223C3 at Willcox.

4. Section 73.202(b), the Table of FM Allotments under California, is amended by adding Channel *298A and by removing Channel 298A at Sutter Creek; and by adding Channel *238A and by removing Channel 238A at Westley.

5. Section 73.202(b), the Table of FM Allotments under Colorado, is amended by adding Channel *270C2 and by removing Channel 270C2 at Olathe; and by adding Channel *293C and by removing Channel 293C at Olathe.

6. Section 73.202(b), the Table of FM Allotments under Florida, is amended by adding Channel *234C3 and by removing Channel 234C3 at Horseshoe Beach; and by adding Channel *259A and by removing Channel 259A at Live Oak.

7. Section 73.202(b), the Table of FM Allotments under Idaho, is amended by adding Channel *280C1 and by removing Channel 280C1 at Weiser.

8. Section 73.202(b), the Table of FM Allotments under Iowa, is amended by adding Channel *238A and by removing Channel 238A at Asbury; by adding Channel *271C3 and by removing Channel 271C3 at Keosauqua; by adding Channel *246A and by removing Channel 246A at Moville; and by adding Channel *268A and by removing Channel 268A at Rudd.

Federal Communications Commission.
Peter H. Doyle,
Chief, Audio Division, Media Bureau.

[FR Doc. 04-8048 Filed 4-8-04; 8:45 am]

BILLING CODE 6712-01-P